DEPARTMENT OF COMMERCE

National Oceanic and Atmospheric Administration

[I.D. 051602D]

Marine Mammals; File No.981-1578-01

AGENCY: National Marine Fisheries Service (NMFS), National Oceanic and Atmospheric Administration (NOAA), Commerce.

ACTION: Receipt of application for amendment to a permit.

SUMMARY: Notice is hereby given that Peter L. Tyack, Ph.D., Woods Hole Oceanographic Institution, Woods Hole, MA 02543, has requested an amendment to scientific research Permit No. 981-1578-01.

DATES: Written or telefaxed comments must be received on or before June 21, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Tammy Adams or Ruth Johnson, (301)713-2289.

SUPPLEMENTARY INFORMATION: The subject amendment to Permit No. 981-1578, issued on August 31, 2000 (65 FR 57319) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No. 981-1578-01 authorizes the permit holder to: tag cetaceans in the Mediterranean and Ligurian Seas, as well as in the Gulf of Mexico and off the coasts of the Azores in the North Atlantic, with an advanced digital sound recording tag that can record the acoustic stimuli an animal hears, and measure vocal, behavioral, and physiological responses to sound played back at maximum received levels of 120-160 dB re 1 micronPa. The permit holder requests authorization to: increase the maximum received level for non-airgun sounds to 180 dB re 1 micronPa; test a whale-finding sonar’s ability to detect gray whales migrating past the central California coast, and add playbacks of the coda sounds of sperm whales as a control stimulus for controlled exposure experiments involving human-made sounds.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 17, 2002.
Eugene T. Nitta,
Acting Chief, Permits, Conservation and Education Division, Office of Protected Resources, National Marine Fisheries Service.

[FR Doc. 02-12868 Filed 5-21-02; 8:45 am]

BILLING CODE 3510-22-S